DEPARTMENT OF JUSTICE

Antitrust Division

Notice Pursuant to the National Cooperative Research and Production Act of 1993—Air Movement and Control Association International, Inc.

Notice is hereby given that, on September 20, 2004, pursuant to section 6(a) of the National Cooperative Research and Production Act of 1993, 15 U.S.C. 4301 et seq. (“the Act”), Air Movement and Control Association International, Inc. (“AMCA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Air Movement and Control Association International, Inc., Arlington Heights, IL. The nature and scope of AMCA's standards development activities are: Methods of testing for fans, air louvers, dampers and airflow measurement stations for various aspects of performance. These are: Fans for airflow, pressure, power and sound; louvers for pressure drop and water penetration; dampers for pressure drop and air leakage; and airflow measurement stations for accuracy of measurement.

Dorothy B. Fountain,
Deputy Director of Operations, Antitrust Division.

[FR Doc. 04-25072 Filed 11-9-04; 8:45 am]

BILLING CODE 4410-11-M